DEPARTMENT OF COMMERCE

National Oceanic and Atmospheric Administration

RIN 0648-XC067

Marine Mammals; File No. 17350

AGENCY: National Marine Fisheries Service (NMFS), National Oceanic and Atmospheric Administration (NOAA), Commerce.

ACTION: Notice; receipt of application.

SUMMARY: Notice is hereby given that North Slope Borough Department of Wildlife Management, P.O. Box 69, Barrow, AK 99723 [Taqulik Hepa, Responsible Party; Dr. John C. George, Principal Investigator], has applied in due form for a permit to collect, import, export, and receive marine mammal parts for scientific research.

DATES: Written, telefaxed, or email comments must be received on or before July 19, 2012.

ADDRESSES: The application and related documents are available for review by selecting “Records Open for Public Comment” from the Features box on the Applications and Permits for Protected Species (APPS) home page, https://apps.nmfs.noaa.gov, and then selecting File No. 17350 from the list of available applications.

These documents are also available upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on these applications would be appropriate.

FOR FURTHER INFORMATION CONTACT: Laura Morse or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The North Slope Borough Department of Wildlife Management requests authorization to collect, receive, import and export parts from legal foreign (Russia and Canada) and domestic subsistence-collected marine mammals of the following species: Bearded seal (Erignathus barbatus), ringed seal (Phoca hispida), spotted seal (Phoca larga), ribbon seal (Phoca fasciata), bowhead whale (Balaena mysticetus), beluga whale (Delphinapterus leucas), minke whale (Balaenoptera acutorostrata), grey whale (Eschrichtius robustus), and harbor porpoise (Phocoena phocoena). Parts would be archived and used for research on a variety of health-related analyses such as tissue histology, contaminants analyses, infectious disease research, parasitology studies, and stable isotope work. Additionally, tissues would be collected to augment the National Marine Mammal Tissue Bank or state tissue archives. No animals would be killed for the purpose of providing samples under this permit. No live animal takes are being requested and no incidental harassment of animals would occur. The requested duration of the permit is five years.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the application to the Marine Mammal Commission and its Committee of Scientific Advisors.

Dated: June 13, 2012.
P. Michael Payne,
Chief, Permits and Conservation Division, Office of Protected Resources, National Marine Fisheries Service.

[FR Doc. 2012-14931 Filed 6-18-12; 8:45 am]

BILLING CODE 3510-22-P